NATIONAL FOUNDATION ON THE ARTS AND THE HUMANITIES

Meetings of Humanities Panel

AGENCY: National Endowment for the Humanities.

ACTION: Notice of meetings.

SUMMARY: The National Endowment for the Humanities will hold sixteen meetings of the Humanities Panel, a federal advisory committee, during November, 2014. The purpose of the meetings is for panel review, discussion, evaluation, and recommendation of applications for financial assistance under the National Foundation on the Arts and Humanities Act of 1965.

DATES: See Supplementary Information section for meeting dates.

ADDRESSES: The meetings will be held at Constitution Center, 400 7th Street SW., Washington, DC 20506. See Supplementary Information section for meeting room numbers.

FOR FURTHER INFORMATION CONTACT: Lisette Voyatzis, Committee Management Officer, 400 7th Street SW., Room 4060, Washington, DC 20506, or call (202) 606-8322. Hearing-impaired individuals are advised that information on this matter may be obtained by contacting the National Endowment for the Humanities' TDD terminal at (202) 606-8282.

SUPPLEMENTARY INFORMATION: Pursuant to section 10(a)(2) of the Federal Advisory Committee Act (5 U.S.C. App.), notice is hereby given of the following meetings:

1. DATE: November 03, 2014.

TIME: 8:30 a.m. to 5:00 p.m.

ROOM: 4002.

This meeting will discuss applications on the subject of American Studies for Media Projects: Production Grants, submitted to the Division of Public Programs.

2. DATE: November 03, 2014.

TIME: 8:30 a.m. to 5:00 p.m.

ROOM: Conference Call.

This meeting will discuss applications for Enduring Questions, submitted to the Division of Education Programs.

3. DATE: November 04, 2014.

TIME: 8:30 a.m. to 5:00 p.m.

ROOM: Conference Call.

This meeting will discuss applications for Enduring Questions, submitted to the Division of Education Programs.

4. DATE: November 04, 2014.

TIME: 8:30 a.m. to 5:00 p.m.

ROOM: 4002.

This meeting will discuss applications on the subject of Cultural History for Museums, Libraries, and Cultural Organizations: Implementation Grants, submitted to Division of Public Programs.

5. DATE: November 05, 2014.

TIME: 8:30 a.m. to 5:00 p.m.

ROOM: Conference Call.

This meeting will discuss applications for Enduring Questions, submitted to the Division of Education Programs.

6. DATE: November 06, 2014.

TIME: 8:30 a.m. to 5:00 p.m.

ROOM: 4002.

This meeting will discuss applications on the subject of History for Media Projects: Production Grants, submitted to the Division of Public Programs.

7. DATE: November 06, 2014.

TIME: 8:30 a.m. to 5:00 p.m.

ROOM: P002.

This meeting will discuss applications on the subject of American Studies for the Humanities Collections and Reference Resources grant program, submitted to the Division of Preservation and Access.

8. DATE: November 12, 2014.

TIME: 8:30 a.m. to 5:00 p.m.

ROOM: 4084.

This meeting will discuss applications on the subject of New Media for Digital Humanities Start-Up Grants, submitted to the Office of Digital Humanities.

9. DATE: November 17, 2014.

TIME: 8:30 a.m. to 5:00 p.m.

ROOM: 4089.

This meeting will discuss applications on the subject of Scholarly Communication for Digital Humanities Start-Up Grants, submitted to the Office of Digital Humanities.

10. DATE: November 18, 2014.

TIME: 8:30 a.m. to 5:00 p.m.

ROOM: 4084.

This meeting will discuss applications on the subject of Education for Digital Humanities Start-Up Grants program, submitted to the Office of Digital Humanities.

11. DATE: November 18, 2014.

TIME: 8:30 a.m. to 5:00 p.m.

ROOM: 4002.

This meeting will discuss applications on the subject of History for Museums, Libraries, and Cultural Organizations: Implementation Grants, submitted to Public Programs.

12. DATE: November 18, 2014.

TIME: 8:30 a.m. to 5:00 p.m.

ROOM: P002.

This meeting will discuss applications on the subject of Art History for the Humanities Collections and Reference Resources grant program, submitted to the Division of Preservation and Access.

13. DATE: November 19, 2014.

TIME: 8:30 a.m. to 5:00 p.m.

ROOM: 4002.

This meeting will discuss applications on the subject of History for Media Projects: Production Grants, submitted to the Division of Public Programs.

14. DATE: November 20, 2014.

TIME: 8:30 a.m. to 5:00 p.m.

ROOM: P002.

This meeting will discuss applications on the subject of Historical Geography for the Humanities Collections and Reference Resources grant program, submitted to Preservation and Access.

15. DATE: November 20, 2014.

TIME: 8:30 a.m. to 5:00 p.m.

ROOM: 4002.

This meeting will discuss applications on the subject of American Studies for Museums, Libraries, and Cultural Organizations: Implementation Grants, submitted to the Division of Public Programs.

16. DATE: November 20, 2014.

TIME: 8:30 a.m. to 5:00 p.m.

ROOM: 4089.

This meeting will discuss applications on the subject of Research for Digital Humanities Start-Up Grants, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: October 16, 2014.
Lisette Voyatzis,
Committee Management Officer.

[FR Doc. 2014-24991 Filed 10-20-14; 8:45 am]

BILLING CODE 7536-01-P